DEPARTMENT OF AGRICULTURE

Animal and Plant Health Inspection Service

[Docket No. 00-061-1]

International Sanitary and Phytosanitary Standard-Setting Activities

AGENCY: Animal and Plant Health Inspection Service, USDA.

ACTION: Notice and solicitation of comments.

SUMMARY: In accordance with legislation implementing the results of the Uruguay Round of negotiations under the General Agreement on Tariffs and Trade, we are informing the public of international standard-setting activities of the Office International des Epizooties, the Secretariat of the International Plant Protection Convention, and the North American Plant Protection Organization, and we are soliciting public comment on the standards to be considered.

ADDRESSES: Please send your comment and three copies to: Docket No. 00-061-1, Regulatory Analysis and Development, PPD, APHIS, Suite 3C03, 4700 River Road, Unit 118, Riverdale, MD 20737-1238.

Please state that your comment refers to Docket No. 00-061-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. John Greifer, Director, Trade Support Team, International Services, APHIS, room 1132, South Building, 14th Street and Independence Avenue, SW., Washington, DC 20250 (202) 720-7677.

SUPPLEMENTARY INFORMATION: The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law by the President on December 8, 1994. The WTO Agreements, which established the WTO, entered into force with respect to the United States on January 1, 1995. The Uruguay Round Agreements Act amended title IV of the Trade Agreements Act of 1979 (19 U.S.C. 2531 et seq.). Section 491 of the Trade Agreement Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the Office International des Epizooties (OIE) regarding animal health and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. This responsibility was delegated to the United States Department of Agriculture's (USDA's) Food Safety and Inspection Service (FSIS) for Codex activities and Animal and Plant Health Inspection Service (APHIS) for OIE, IPPC, and NAPPO activities.

FSIS is responsible for publishing an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing notice of OIE, IPPC, and NAPPO activities related to international standards and representing the United States with respect to these standards.

Following are descriptions of the OIE, IPPC, and NAPPO organizations and the standard-setting agenda for each of these institutions. Our intent is to describe the agenda that each of these organizations will address at their annual general sessions, including standards that may be presented for adoption or consideration, as well as other initiatives that may be underway at the OIE, IPPC, and NAPPO.

OIE Standard-Setting Activities

The OIE was established in Paris, France, in 1924 with the signing of an international agreement by 28 countries. It is currently composed of 155 member nations, each of which is represented by a delegate who, in most cases, is the chief veterinary officer of that country. The WTO has recognized the OIE as the international forum for setting animal health standards, reporting global animal situations and disease status, and presenting guidelines and recommendations on sanitary measures relating to animal health.

The OIE facilitates intergovernmental cooperation to prevent the spread of contagious diseases in animals through the sharing of scientific research among its members. The major functions of the OIE are to collect and disseminate information about distribution and control of animal diseases and to ensure that scientifically justified standards govern international trade in animals and animal products. The OIE aims to achieve this through the development and revision of international standards for diagnostic tests, vaccines, and the safe international trade of animals and animal products.

The OIE provides annual reports on the global distribution of animal diseases, recognizes disease-free status of member countries, categorizes animal diseases with respect to their international significance, publishes bulletins on global disease status and timely reviews of pertinent animal health issues, and provides animal disease control guidelines to member countries.

Positions, policies, and standards established by the OIE can be adopted by consensus or by vote of the delegates upon recommendations from various commissions and working groups within the OIE. These various commissions and working groups undertake the initial analysis and preparation of draft standards. Drafts are then circulated to member countries for consultation (review and comment). Draft standards are revised accordingly and then presented to the OIE General Session, which meets annually every May, for review and adoption. Adoption, as a general rule, is based on consensus of the OIE membership.

The next OIE General Session is scheduled for Paris, France, May 27-June 1, 2001. The Deputy Administrator for APHIS' Veterinary Services is the U.S. delegate to the OIE. The Deputy Administrator intends to participate in the proceedings and will discuss or comment on APHIS's position on any standard up for adoption in the event that there is no consensus on whether to adopt that standard. The agenda for the General Session is expected to include the following items:

Code Chapters up for Adoption or Consideration

Revisions to the following chapters of the OIE Animal Health Code are expected to be presented for adoption at the next General Session.

• Scrapie: Revisions to the OIE Code, chapter 3.3.8.

• Classical swine fever: An ad hoc group will examine possible revisions to the OIE Code, chapter 2.1.13.

• Newcastle disease: An ad hoc group will be formed to examine possible revisions to the OIE Code, chapter 2.1.15.

• Diseases of bees: Revisions to the OIE Code, chapter 3.8.1-3.8.5.

• Bovine Spongiform Encephalopathy (BSE): Continued revisions to OIE Code, chapter 3.2.13.

• Bluetongue: Revisions to the OIE Code, chapter 2.1.9.

• Paratuberculosis: The OIE Code, chapter 3.1.6, will be further updated and reviewed.

These chapters are being drafted by working groups that are composed of technical experts nominated by the OIE Code Commission by virtue of their subject-area expertise. During the initial drafting phase, countries and, by extension, the public, do not have the opportunity to review and comment on the standards being developed. Countries have the opportunity to comment on standards when the OIE makes draft chapters available for country consultation, probably sometime in October or November 2000. After the country consultation phase, countries' comments are considered by the working groups and the Code Commission. If a country has concerns with a particular draft standard, the Commission may revise that standard accordingly and present the revision for adoption at the General Session in May. In the event that a country's concerns regarding a draft standard are not taken into account, that country may refuse to support the standard when it comes up for adoption at the General Session. However, each member country is obligated to make science-based decisions when considering standards up for adoption at the General Session.

The above draft standards will not be made available to the United States for country consultation until October or November, 2000. The U.S. positions on those standards will not be adopted until after the draft standards are made available to us. Additional information can be obtained at that time by contacting Dr. Michael David, VS, APHIS, 4700 River Road Unit 38, Riverdale, MD 20737-1231; (301) 734-3577; or e-mail: michael.j.david@usda.gov.

Current Work Program

If the Code Commission determines that a new standard or a revision of an existing standard is required, the Commission forms a working group of persons with expertise in the area of the standard being considered. It is the working group's responsibility to draft or revise the standards and report their progress to the General Session. At present, there is one group working on each of the standards mentioned above.

Two other ongoing working groups within the OIE, Wildlife Diseases and Informatics and Epidemiology, are charged with providing other working groups and commissions with technical information and advice related to wildlife and livestock diseases, including disease surveillance and risk analysis.

An ongoing ad-hoc group on anti-microbial resistence is charged with looking at issues such as the prudent use of antibiotics in livestock production, monitoring the quantities of antibiotics used in veterinary medicine, and the standardization of laboratory procedures and the harmonization of national systems for the surveillance of microbial resistance in animals and in foods of animal origin. The group is developing consensus documents on these issues that will be distributed to all member countries for consideration.

For current information on any of these working groups, (including meeting times and agendas) contact Dr. Michael David at the address listed above under the heading “Code Chapters up for Adoption or Consideration.”

Other OIE Topics

Two other major topics will be addressed at the May 2001 General Session. However, additional standards for these topics are not expected to be developed and presented for adoption at the General Session:

• The importance of animal diseases in public health, animal health, and trade.

• The role of communication management in supporting veterinary services.

The information in this notice includes all the information currently available to us on OIE standards currently under development or consideration. Information on OIE standards is available on the OIE web page at http://www.oie.int. Further, a formal agenda for the next General Session will be available to member countries in January or February of 2001, and copies will be available to the public once the agenda is published. For current information on meeting times, working groups, and/or meeting agendas, or for information on official U.S. participation in OIE activities, including U.S. positions on standards being considered, contact Dr. Michael David at the address listed above under the heading “Code Chapters up for Adoption or Consideration.”

IPPC Standard-Setting Activities

The IPPC is a multilateral convention adopted in 1952 for the purpose of securing common and effective action to prevent the spread and introduction of pests of plants and plant products and to promote appropriate measures for their control. Under the IPPC, the understanding of plant protection has been, and continues to be, broad, encompassing the protection of both cultivated and noncultivated plants from direct or indirect injury by plant pests. Activities addressed by the IPPC include the development and establishment of international plant health standards, the harmonization of phytosanitary activities through emerging standards, the facilitation of the exchange of official and scientific information among countries, and the furnishing of technical assistance to developing countries that are signatories to the IPPC.

The IPPC is placed under the authority of the FAO, and the members of the Secretariat of the IPPC are appointed by the FAO. The IPPC is implemented by national plant protection organizations in cooperation with regional plant protection organizations, the Interim Commission on Phytosanitary Measures (ICPM), and the Secretariat of the IPPC. The United States plays a major role in all standard-setting activities under the IPPC and has representation on FAO's highest governing body, the FAO Conference.

The United States became a contracting party to the IPPC in 1972 and has been actively involved in furthering the work of the IPPC ever since. The IPPC was amended in 1979, and the amended version entered into force in 1991 after two-thirds of the contracting countries accepted the amendment. More recently, in 1997, contracting parties completed negotiations on further amendments that were approved by the FAO Conference and submitted to the parties for acceptance. This 1997 amendment updated phytosanitary concepts and formalized the standard-setting structure within the IPPC. The 1997 amended version of the IPPC will enter into force once two-thirds of the current contracting parties notify the Director General of FAO of their acceptance of the amendment.

The IPPC has been, and continues to be, administered at the national level by plant quarantine officials whose primary objective is to safeguard plant resources from injurious pests. In the United States, the national plant protection organization is APHIS' Plant Protection and Quarantine (PPQ) unit. The steps for developing a standard under the revised IPPC are described below.

Step 1

Proposals for a new international standard for phytosanitary measures (ISPM) or for the review or revision of an existing ISPM are submitted to the Secretariat in the form of a discussion paper accompanied by a topic or draft standard. Drafts can be submitted by individual countries, but are more commonly submitted by regional plant protection organizations (RPPO's). Alternately, the Secretariat can propose a new standard or amendments to existing standards.

Step 2

A summary of proposals is submitted by the Secretariat to the ICPM. The ICPM identifies the topics and priorities for standard setting from among the proposals submitted to the Secretariat and others that may be raised by the ICPM.

Step 3

Specifications for the standards identified as priorities by the ICPM are drafted by the Secretariat. The draft specifications are submitted to the Standards Committee for approval/amendment and are subsequently made available to members and RPPO's for comment (60 days). Comment is by written submission to the Secretariat. Taking into account the comments, the Standards Committee finalizes the specifications.

Step 4

The standard is drafted or revised by a working group designated by the Standards Committee and in accordance with the specifications. The resulting draft standard is submitted to the Standards Committee for review.

Step 5

Draft standards approved by the Standards Committee are distributed to members by the Secretariat and RPPO's for consultation (120 days). Comment is by written submission to the Secretariat. Where appropriate, the Standards Committee may establish open-ended discussion groups as fora for further comment. The Secretariat summarizes the comments and submits them to the Standards Committee.

Step 6

Taking into account the comments, the Secretariat, in cooperation with the Standards Committee, revises the draft standard. The Standards Committee submits the final version to the ICPM for adoption.

Step 7

The ISPM is established through formal adoption by the ICPM according to Rule X of the Rules of Procedure of the ICPM.

Step 8

The ISPM is reviewed by the specified date or such other date as may be agreed upon by the ICPM.

Each member country is represented on ICPM by a single delegate. Although experts and advisers may accompany the delegate to meetings of the ICPM, only the delegate or an authorized alternate may represent the United States in considering a standard up for approval. Parties involved in a vote by the ICPM are to make every effort to reach agreement on all matters by consensus. Only after all efforts to reach a consensus have been exhausted may a decision on a standard be passed by a vote of two-thirds of delegates present and voting.

Technical experts from the United States have participated directly in working groups and indirectly as reviewers of all IPPC draft standards. In addition, documents and positions developed by APHIS and NAPPO have served as the basis for many of the standards adopted to date. This notice describes each of the IPPC standards currently under consideration or up for adoption. Access to the full text of each standard will be available electronically on the APHIS Internet web page at http://aphis.usda.gov/ppq/standards. Interested individuals may review and provide comments on the standards found on this web page.

The next ICPM meeting is scheduled for April 2-6, 2001. The Deputy Administrator for APHIS' Plant Protection and Quarantine is the U.S. delegate to the ICPM. The Deputy Administrator intends to participate in the proceedings and will discuss or comment on APHIS's position on any standard up for adoption in the event that there is no consensus on whether to adopt that standard. The provisional agenda for the meeting is as follows:

Provisional Agenda for the Third Interim Commission on Phytosanitary Measures

1. Opening of the session

2. Report by the chairperson

3. Adoption of the agenda

4. Standard setting priorities

5. Adoption of international standards ¹

¹ Standards that may be up for adoption at the April 2001 general session are listed below under the heading “Interim Standards Committee”.

6. Items arising from the second meeting of the ICPM

6.1 Formation of a standards committee

6.2 Dispute settlement procedures

6.3 Information exchange

6.4 Genetically modified organisms (GMO's), biosafety and invasive species

6.5 Official control

7. Report from the technical consultation among RPPO's

7.1 Recognition of RPPO's

8. Work program for harmonization

8.1 Standard setting

8.2 Information exchange

8.3 Technical assistance

9. Strategic planning

10. Status of the IPPC

10.1 Acceptance of the new revised text

10.2 Interim standards

11. Other business

11.1 Reporting of noncompliance with phytosanitary measures

12. Date and venue of the next meeting

13. Election of the bureau

14. Adoption of the report

The agenda is also expected to include reports from various working groups, as described below.

Working Group on Notification and Noncompliance: Under the Convention, members have an obligation to notify incidents involving noncompliance of imported shipments (e.g., certification deficiencies or pest interceptions) to the member concerned. This working group, which met in December 1999, drafted a standard for such notifications among members.

Working Group on Pest Listing: The IPPC requires contracting parties to establish and update lists of regulated pests for phytosanitary certification purposes. Guidelines were developed for meeting these obligations at a working group meeting, by describing lists of regulated pests, their purpose, and their relationship to phytosanitary procedures. APHIS participated in the working group meeting, which met in January 2000.

Working Group on Strategic Planning and Technical Assistance: This working group, which met in early March 2000, began the process of drafting a strategic plan for review and comment by ICPM members. The working group's goal is to develop a strategic plan that will help clarify the ICPM's basic functions and ensure that the annual work program, Secretariat's activities, and financial investments are focused on achieving the IPPC's most important objectives. The working group is also charged with addressing the ICPM's role in technical assistance. This working group will meet again in October 2000 to finalize the strategic plan.

Working Group on Official Control: The purpose of this working group, which met in March 2000, was to arrive at a more exact definition of what constitutes “officially controlled” in the IPPC's definition of “quarantine pest.” Ambiguities in the current definition allow countries to impose phytosanitary measures on pests that may already exist within their territory, but are not under internal regulatory controls. This has raised concerns about the use of unjustified or discriminatory treatments or requirements on imports. The working group developed a clarified definition and set of guidelines to ensure a harmonized understanding and application of the concept of “official control.”

Working Group on Standards Committee: This working group, which met the week of April 10, 2000, will develop recommendations on the future structure and composition for the Standards Committee. The Standards Committee is called the Interim Standards Committee until some basic structural changes are adopted by the ICPM. The working group considered a structure that is limited in size to ensure high productivity, emphasizes scientific expertise on the Committee rather than geographical representation, and allows for adequate participation of experts from developing countries.

Working Group on Dispute Settlement: This working group met the week of May 9, 2000, to finalize rules and procedures for utilizing dispute settlement described in the IPPC. These procedures, contained in Article XIII of the Convention, are not legally binding. However, members agree that such provisions, if available, may help reduce or avoid formal, legalistic, and costly disputes in the WTO.

Interim Standards Committee: The Interim Standards Committee, which met the week of May 15, 2000, to review and redraft, as appropriate, draft standards that will be considered for adoption in 2001. This Committee will meet again in November 2000 to possibly finalize these draft standards for submission to and adoption by the ICPM in April 2001. Among the drafts to be reviewed are standards on “Guidelines for Notification of Interceptions and Noncompliance,” “Guidelines for the Preparation of Regulated Pest Lists,” “Guidelines on Official Control,” “Revised Pest Risk Analysis Standard,” and “Guidelines for the Preparation of Phytosanitary Certificates.” The committee will also review revisions to the “Glossary of Phytosanitary Terms.”

Working Group on Wood Packing Material: Consensus was reached at the ICPM meeting in October 1999 on prioritizing the development of a standard on wood packing material. This issue was considered of high importance to all members that have experienced a growing increase in pest interceptions associated with wood packing materials. The working group, which met the week of June 6, 2000, drafted a global standard based on the existing regional standard developed by NAPPO.

Working Group on GMOs and Invasive Species: This working group met the week of June 13, 2000, to identify the phytosanitary aspects of GMO's and to consider the necessity of developing international phytosanitary standards in this area. The working group was charged with: Developing a statement on the role of the IPPC in assessing the plant pest risk of GMO's and the relationship between invasive species and plant quarantine pests (pests of primary concern under the IPPC); identifying the roles and responsibilities of other relevant bodies and any potential overlaps with the role of the IPPC; considering the necessity of developing international standards under the IPPC; identifying the need for capacity building in developing countries to fulfill their identified role under the IPPC; and developing a draft communication strategy to promote and clarify the role of the IPPC in this area. These points were all addressed at the meeting.

Working Group on Regulated Nonquarantine Pests: The new revised Convention broadened the scope of regulated pests to include regulated nonquarantine pests that are associated with propagative materials. These pests are regulated due to their economic impact. The working group, which met the week of July 3, 2000, considered the development of a standard to guide the application of phytosanitary measures for this new category of pests.

Working Group on Systems Approaches for Pest Management: Given the eventual loss of methyl bromide as a quarantine tool, many countries are relying increasingly on new approaches for reducing pest risks and meeting foreign import requirements. Systems approaches have emerged as an increasingly popular way to certify commodities for export. A working group, which met the week of July 24, 2000, considered the development of a standard to harmonize the approach used by countries in establishing systems approaches for export purposes.

Working Group on Pest Reporting: Under the IPPC, members have an obligation to report pest outbreaks or incidents that may be of potential danger to other members. This working group, which met the week of September 12, 2000, is expected to develop a standard format for such reporting between members.

Status of Newly Revised Text of IPPC

The newly revised Convention (amended in 1997) will come into force once two-thirds of the contracting parties deposit their formal letters of acceptance with the Director General of FAO. With regard to U.S. action on this matter, on March 23, 2000, the President formally transmitted the Revised Text of the Convention to the Senate recommending review and consent of this amended Convention. Formal U.S. acceptance of the revised Convention (i.e., official U.S. letter of acceptance deposited with FAO) will occur once the Senate completes its review and consent procedure.

IPPC Standards Up for Adoption in 2001

It is anticipated that five Standards will be considered by the ICPM for adoption at its April 2001 meeting. The United States, represented by APHIS, will participate in the consideration of these standards. They include:

1. Revised Pest Risk Analysis Standard: This standard, adopted in 1995, provides guidelines for conducting pest risk analyses (PRA) for quarantine pests. The newly revised Convention clarifies a number of terms and concepts related to PRA. Consequently, the existing PRA standard was updated to reflect these changes.

2. Guidelines for the Preparation of Phytosanitary Certificates: This standard will guide members in the preparation of phytosanitary certificates. These certificates, based on a standardized format, accompany plant commodities and attest that a given shipment has been inspected and is found to be free of quarantine pests and in compliance with the importing member's phytosanitary requirements.

3. Guidelines for the Preparation of Pest Lists: Under the IPPC, members are required to establish and keep up-to-date lists of regulated pests within their territory. The purpose is to keep other members informed of which pests are subject to phytosanitary requirements, thereby facilitating the phytosanitary certification of exports. This standard will guide members in the development and use of pest lists.

4. Guidelines for Defining “Official Control”: Under the IPPC, the definition of a quarantine pest is a “pest of potential economic importance to the area endangered thereby and not yet present there, or present but not widely distributed and being officially controlled.” The term “officially controlled” has been part of the IPPC definition of “quarantine pest” for many years, but never defined. As a result, members have had different interpretations for the term, especially as it relates to pests occurring within their territory. Ambiguities in the meaning of “official control” have allowed countries to impose phytosanitary measures on pests that may already exist within their territory and are not under internal regulatory controls. This has raised concerns of unjustified and/or discriminatory treatments or requirements imposed on imports. This standard will provide guidelines to ensure a harmonized understanding and application of the concept of “official control.”

5. Guidelines for Reporting Interception and Noncompliance: Under the Convention, members are obligated to notify exporting members of incidents of noncompliance of imported shipments (e.g., phytosanitary certification deficiencies, pest interceptions) associated with their export shipments. These guidelines will clarify the procedures by which members inform each other of pest interceptions, certification issues, or other irregularities related to imported commodities or shipments.

At this time, it appears likely that only the above standards will be presented for adoption at the next ICPM meeting in April 2001. The United States intends to support adoption of the draft standards at the ICPM meeting.

APHIS posts draft standards on its web page (http://www.aphis.usda.gov/ppq/standards) as they become available to us. The web page also provides information on when comments on standards are due. Additional information on IPPC standards is available on the FAO web page at http://www.ippc.int. For information on official U.S. participation in IPPC activities, including U.S. positions on standards being considered, contact Narcy Klag, Coordinator for International Phytosanitary Standards, PPQ, APHIS, USDA, 4700 River Road, Unit 140, Riverdale, MD 20737; e-mail: narcy.g.klag@usda.gov.

NAPPO Standard-Setting Activities

NAPPO, a regional plant protection organization created in 1976 under the IPPC, coordinates the efforts among Canada, the United States, and Mexico to protect their plant resources from the entry, establishment, and spread of harmful plant pests, while facilitating intra-and inter-regional trade.

NAPPO conducts its business through panels and annual meetings held among the three member countries. The NAPPO Executive Committee charges individual panels with the responsibility for drawing up proposals for NAPPO positions, policies, and standards. These panels are made up of representatives from each member country who have scientific expertise related to the policy or standard being considered.

Proposals drawn up by the individual panels are circulated for review to government and industry officials in Canada, Mexico, and the United States, who may suggest revisions. In the United States, draft standards are circulated to industry, States, and various government agencies for consideration and comment. The draft standards are posted on the Internet at: http://www.aphis.usda.gov/ppq/standards. Interested persons may submit comments via this web page. Once revisions are made, the proposal is sent to the NAPPO working group and the NAPPO standards panel for technical reviews and then to the Executive Committee for final approval, which is granted by consensus.

The annual NAPPO meeting is scheduled for October 17-18, 2000, in San Diego, CA. The Executive Committee meeting will take place on October 15, and a special session will be held on October 16, where industry groups can bring issues to the attention of the Executive Committee. The Deputy Administrator for APHIS' Plant Protection and Quarantine is the U.S. member of the Executive Committee. The Deputy Administrator intends to participate in the proceedings and will discuss or comment on APHIS's position on any standard up for adoption in the event that there is no consensus on whether to adopt that standard. The agenda for the meeting will include the following items related to standard setting:

Standards up for Adoption or Consideration:

• Guidelines for Preclearance Programs: This standard revises the current standard to include, among other things, procedures for phasing out preclearance programs. The United States intends to support adoption of the draft standard at the NAPPO meeting in October.

Updates on NAPPO Panel Activities

Working panels will report their progress to the Executive Committee. Information on panel assignments, updates on activities, and updates on meeting times and locations can be obtained from the NAPPO home page at http://www.nappo.org or by contacting Narcy Klag, Coordinator for International Phytosanitary Standards, PPQ, APHIS, USDA, 4700 River Road, Unit 140, Riverdale, MD 20737; e-mail: narcy.g.klag@usda.gov.

The following is a summary of current panel charges as they relate to the ongoing development of standards:

Accreditation Panel (Laboratory Accreditation)

• Develop a form for commodity-specific panels to use to develop an inventory of laboratory tests, analyses, and identification done in support of plant health regulatory activities.

Accreditation Panel (Inspector Accreditation)

• Work towards implementing the conditions of this standard by April 1, 2001. Written progress report to be given to the Executive Committee at its meeting on October 15, 2000.

Biological Control Panel

• Finalize the standard, “Guidelines for Petition for Import and Release of Nonnative Entomophagous Agents for the Biological Control of Pests.” This has gone through the country consultation phase, and comments are now being reviewed and incorporated where appropriate. A procedure to conduct post-release monitoring for biological control agents is also being developed.

Biotechnology Panel

• Develop a NAPPO standard for the review of products of biotechnology that focuses on the assessment of the potential to present a plant pest risk.

Citrus Panel

• Continue development of a NAPPO citrus standard.

Forestry Panel

• Track the implementation of the standard on wood packing material within the three countries so that implementation takes places at or near the same time.

Fruit Fly Panel

• Complete the standard on “Verification and Maintenance of Fruit Fly-Free Areas.”

Fruit Tree Panel

• Develop standardized diagnostic tests to be used when certifying fruit tree nursery stock.

Grain Panel

• Develop standardized diagnostic tests to be used when certifying grain shipments.

Grapevine Panel

• Develop standardized diagnostic tests to be used when certifying grapevine shipments.

Pest Risk Analysis Panel

• Act as focal point to advise on the revisions to the international standard for PRA. Collaborate with the Potato Panel in the development of a PRA to support implementation of the NAPPO standard, “Requirements for the Importation of Potatoes into a NAPPO Member Country.”

Seeds Panel

• Prepare a proposal to the IPPC to endorse the seed testing methods of the International Seed Testing Association (ISTA).

Standards Panel

• Provide updates on standards in the NAPPO newsletter.

• Review standards presented to the Executive Committee prior to country consultation.

• Incorporate comments received from country consultation if appropriate.

• Coordinate responses to the North American members on the IPPC Standards Committee on draft international standards.

The information in this notice includes all the information available to us on NAPPO standards currently under development or consideration. For updates on meeting times and for information on the working panels that becomes available following publication of this notice, check the NAPPO web page at http://www.nappo.org or contact Narcy Klag, Coordinator for International Phytosanitary Standards, PPQ, APHIS, USDA, 4700 River Road, Unit 140, Riverdale, MD 20737; e-mail: narcy.g.klag@usda.gov. For information on official U.S. participation in NAPPO activities, including U.S. positions on standards being considered, contact Mr. Narcy Klag at the above address.

Done in Washington, DC, this 21st day of September 2000.
Chester A. Gipson,
Acting Administrator, Animal and Plant Health Inspection Service.

[FR Doc. 00-24841 Filed 9-26-00; 8:45 am]

BILLING CODE 3410-34-P